DEPARTMENT OF DEFENSE

Office of the Secretary

Federal Advisory Committee; Defense Intelligence Agency Advisory Board; Closed Meeting

AGENCY: Defense Intelligence Agency, DoD.

ACTION: Notice.

SUMMARY: Under the provisions of the Federal Advisory Committee Act of 1972 (5 U.S.C., Appendix, as amended), the Government in the Sunshine Act of 1976 (5 U.S.C. 552b, as amended), and 41 CFR 102-3.150 the Department of Defense announces that Defense Intelligence Agency Advisory Board and two of its subcommittees will meet on January 26 and 27, 2011. The meetings are closed to the public.

DATES: The meeting will be held on January 26, 2011 (from 1:30 p.m. to 5:15 p.m.) and on January 27, 2011 (from 9 a.m. to 4:30 p.m.).

ADDRESSES: The meeting will be held at Bolling Air Force Base.

FOR FURTHER INFORMATION CONTACT: Mr. Mark Harrison, (703) 647-5102, Alternate Designated Federal Official, DIA Office for Congressional and Public Affairs, Pentagon, 1A874, Washington, DC 20340.

Committee's Designated Federal Official: Mr. William Caniano, (703) 614-4774, DIA Office for Congressional and Public Affairs, Pentagon, 1A874 Washington, DC 20340. William.Caniano@dia.mil.

SUPPLEMENTARY INFORMATION:

Purpose of the Meeting

For the Advisory Board and its subcommittees to review and discuss DIA operations and capabilities in support of current operations.

Agenda

January 26, 2011

1:30 pm Convene Full Advisor Board for Administrative Issues

Mr. William Caniano, Designated Federal Official

Mrs. Mary Margaret Graham, Chairman

1:50 pm Break

2:00 pm Subcommittee Business

3:30 pm Break

3:45 pm Subcommittee Business

5:15 pm Adjourn

January 27, 2011

9:00 am Reconvene Full Advisory Board for Briefings and Discussion

12:00 pm Lunch

1:00 pm Briefings and Discussion

3:00 pm Break

3:15 pm Deliberations

Mrs. Mary Margaret Graham, Chairman

4:30 pm Adjourn

Pursuant to 5 U.S.C. 552b, as amended and 41 CFR 102-3.155, the Defense Intelligence Agency has determined that all the meetings shall be closed to the public. The Director, DIA, in consultation with his General Counsel, has determined in writing that the public interest requires that all sessions of the Board's meetings will be closed to the public because they will be concerned with classified information and matters covered by section 5 U.S.C. 552b(c)(1).

Written Statements

Pursuant to 41 CFR 102-3.105(j) and 102-3.140, and section 10(a)(3) of the Federal Advisory Board Committee Act of 1972, the public or interested organizations may submit written statements at any time to the DIA Advisory Board regarding its missions and functions. All written statements shall be submitted to the Designated Federal Official for the DIA Advisory Board. He will ensure that written statements are provided to the membership for their consideration. Written statements may also be submitted in response to the stated agenda of planned committee meetings. Statements submitted in response to this notice must be received by the Designated Federal Official at least five calendar days prior to the meeting which is the subject of this notice. Written statements received after that date may not be provided or considered by the Board until its next meeting. All submissions provided before that date will be presented to the Board members before the meeting that is subject of this notice. Contact information for the Designated Federal Official is listed under FOR FURTHER INFORMATION CONTACT.

Dated: December 15, 2010.
Morgan F. Park,
Alternate OSD Federal Register Liaison Officer, Department of Defense.

[FR Doc. 2010-32399 Filed 12-23-10; 8:45 am]

BILLING CODE 5001-06-P